FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011654-017.

Title: Middle East Indian Subcontinent Discussion Agreement.

Parties: A.P. Moller-Maersk A/S; China Shipping Navigation Co., Ltd. d/b/a Indotrans; CMA CGM S.A.; Emirates Shipping Line FZE; Hapag-Lloyd AG; MacAndrews & Company Limited; Shipping Corporation of India, Ltd.; The National Shipping Company of Saudi Arabia; United Arab Shipping Company (S.A.G.); and Zim Integrated Shipping Services, Ltd.

Filing Party: Wayne R. Rohde, Esq.; Sher & Blackwell LLP; 1850 M Street, NW., Suite 900; Washington, DC 20036.

Synopsis: The amendment changes China Shipping Navigation Co.'s name to Swire Shipping Limited and updates that entity's address.

Agreement No.: 011985.

Title: CSAV/NYK ECUS-WCSA Space Charter Agreement.

Parties: Compania Sud Americana de Vapores S.A. and Nippon Yusen Kaisha.

Filing Party: Wayne R. Rohde, Esq.; Sher & Blackwell LLP; 1850 M Street, NW.; Suite 900; Washington, DC 20036.

Synopsis: The agreement authorizes CSAV to charter space to NYK for the carriage of motor vehicles on car carriers from Baltimore and Miami to ports in Chile and Peru through February 15, 2007.

Agreement No.: 011986.

Title: CMA CGM/MARUBA Central America to Miami Space Charter Agreement.

Parties: CMA CGM S.A. and MARUBA S.A.

Filing Party: Paul M. Keane, Esq.; Cichanowicz, Callan, Keane, Vengrow & Textor, LLP; 61 Broadway; Suite 3000; New York, NY 10006-2802.

Synopsis: The agreement authorizes CMA CGM to charter space to MARUBA between the U.S. East Coast and ports throughout Central America and the Caribbean.

By Order of the Federal Maritime Commission.
Dated: January 19, 2007.
Bryant L. VanBrakle,
Secretary.

[FR Doc. E7-1000 Filed 1-23-07; 8:45 am]

BILLING CODE 6730-01-P